ENVIRONMENTAL PROTECTION AGENCY

[EPA-HQ-OPP-2017-0466; FRL-9971-10]

Product Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1A, Table 1B and Table 2 of Unit II, pursuant to the Federal Insecticide, Fungicide, and Rodenticide Act (FIFRA). This cancellation order follows an October 3, 2017 Federal Register Notice of Receipt of Requests from the registrants listed in Table 3 of Unit II to voluntarily cancel and amend to terminate uses of these product registrations. The cancellations of products listed in Table 1B would terminate the last Spirodiclofen products registered for use in the United States. In the October 3, 2017 notice, EPA indicated that it would issue an order implementing the cancellations and amendments to terminate uses, unless the Agency received substantive comments within the 30-day comment period that would merit its further review of these requests, or unless the registrants withdrew their requests. The Agency received 5 comments on the notice but none merited its further review of the requests. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are applicable December 26, 2017.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2017-0466, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellations and amendments to terminate uses, as requested by registrants, of products registered under FIFRA section 3 (7 U.S.C. 136a).

These registrations are listed in sequence by registration number in Tables 1A, 1B and 2 of this unit.

Table 1A—Product Cancellations
Registration No. | Company No. | Product name | Active ingredient
211-25 | 211 | Pheno Cen Germicidal Detergent | Potassium 2-benzyl-4-chlorophenate; o-Phenylphenol, potassium salt; & p-tert-Amylphenol, potassium salt.
211-32 | 211 | Pheno-Cen Spray Disinfectant/Deodorant | Ethanol; & o-Phenylphenol (NO INERT USE).
211-36 | 211 | Tri-Cen | Sodium 2-benzyl-4-chlorophenate; o-Phenylphenol, sodium salt; & p-tert-Amylphenol, sodium salt.
211-62 | 211 | Low PH Phenolic 256 | 2-Benzyl-4-chlorophenol; & o-Phenylphenol (NO INERT USE).
769-989 | 769 | AllPro Mosquito Barrier Spray | Permethrin.
875-183 | 875 | Divosan MH | Iodine.
1677-22 | 1677 | Mikroklene | Oxirane, methyl-, polymer with oxirane, monobutyl ether, compound with iodine; & Phosphoric acid.
1677-58 | 1677 | Mikroklene DF | Oxirane, methyl-, polymer with oxirane, monobutyl ether, compound with iodine; & Phosphoric acid.
1677-89 | 1677 | Bac-Flush | Iodine; & Phosphoric acid.
2217-617 | 2217 | Garden Weeder | DCPA (or chlorthal-dimethyl?).
3862-18 | 3862 | Germ-I-San | Nonylphenoxypolyethoxyethanol-iodine complex; & Phosphoric acid.
4787-40 | 4787 | Chlorpyrifos Technical | Chlorpyrifos.
4787-41 | 4787 | Nufos Technical | Chlorpyrifos.
4787-51 | 4787 | Cheminova Abamectin Technical | Abamectin.
4787-62 | 4787 | Chlorpyrifos Technical II | Chlorpyrifos.
5383-114 | 5383 | Polyphase HS32 | Propiconazole; & Carbamic acid, butyl-, 3-iodo-2-propynyl ester.
5383-120 | 5383 | Polyphase Micro HS30 | Propiconazole; & Carbamic acid, butyl-, 3-iodo-2-propynyl ester.
7616-81 | 7616 | Kem Tek Spa Kem Floating Brominator | Bromochloro-5-ethyl-5-methyl-2,4-imidazolidinedione.
9480-7 | 9480 | Sani-Wipe | Isopropyl alcohol; & Alkyl * dimethyl benzyl ammonium chloride.* (67% C12, 25% C14, 7% C16, 1% C8, C10, and C18).
9688-127 | 9688 | Chemsico Total Release Fogger K | MGK 264; Pyrethrins; & Piperonyl butoxide.
10088-23 | 10088 | Spa Concentrated Swimming Pool Algaecide-Pool Side Surface Germicide | Alkyl * dimethyl benzyl ammonium chloride. * (60% C14, 30% C16, 5% C18, 5% C12); & Alkyl * dimethyl ethylbenzyl ammonium chloride * (68% C12, 32% C14).
10088-29 | 10088 | CD Cleaner Disinfectant Deodorizer Fungicide | Alkyl * dimethyl benzyl ammonium chloride. * (60% C14, 30% C16, 5% C18, 5% C12); & Alkyl * dimethyl ethylbenzyl ammonium chloride * (68% C12, 32% C14).
10088-42 | 10088 | 10% Liquid Sanitizer Disinfectant | Alkyl * dimethyl benzyl ammonium chloride. * (60% C14, 30% C16, 5% C18, 5% C12); & Alkyl * dimethyl ethylbenzyl ammonium chloride * (68% C12, 32% C14).
10088-52 | 10088 | Lemon Scented Disinfectant Cleaner | Alkyl * dimethyl benzyl ammonium chloride. * (60% C14, 30% C16, 5% C18, 5% C12); & Alkyl * dimethyl ethylbenzyl ammonium chloride * (68% C12, 32% C14).
10088-103 | 10088 | A-Plus Germicidal Spray & Wipe Cleaner | Alkyl * dimethyl benzyl ammonium chloride. * (60% C14, 30% C16, 5% C18, 5% C12); & Alkyl * dimethyl ethylbenzyl ammonium chloride * (68% C12, 32% C14).
10088-104 | 10088 | Mis-Tery Household Disinfectant and Deodorizer Spray | Ethanol; 4-tert-Amylphenol; & o-Phenylphenol (NO INERT USE).
10088-105 | 10088 | C-Spray Disinfectant Deodorant | Ethanol; 4-tert-Amylphenol; & o-Phenylphenol (NO INERT USE).
10163-185 | 10163 | Prokil Cryolite WDG | Cryolite.
10324-130 | 10324 | Maquat MC1416-10% CTP | Alkyl * dimethyl benzyl ammonium chloride * (60% C14, 30% C16, 5% C18, 5% C12).
33955-474 | 33955 | Acme Garden Weed Preventer Granules | DCPA (or chlorthal-dimethyl?).
33955-509 | 33955 | Acme Garden Weed Preventer Spray | DCPA (or chlorthal-dimethyl?).
34810-8 | 34810 | Wex-Cide Concentrated Germicidal Detergent | 2-Benzyl-4-chlorophenol; & o-Phenylphenol (NO INERT USE).
39039-15 | 39039 | Y-Tex Co-Ral Livestock Dust | Coumaphos.
39444-9 | 39444 | Micropur MP | Silver.
47000-91 | 47000 | TR-1 Total Release Fogger | MGK 264; Pyrethrins; & Permethrin.
47000-95 | 47000 | Fly Bomb 5-1-1 | MGK 264; Pyrethrins; & Piperonyl butoxide.
47000-144 | 47000 | Co-Ral Coumaphos 25% Dust Base | Coumaphos.
51147-5 | 51147 | Benzyl Benzoate | Benylate.
53345-3 | 53345 | Ercocide C | Sodium chlorate.
53345-4 | 53345 | Ercocide S | Sodium chlorate.
59820-5 | 59820 | Benzyl Benzoate Miticide Technical | Benylate.
70385-7 | 70385 | Clean Carpet Sanitizer | 2-Benzyl-4-chlorophenol; 4-tert-Amylphenol; & o-Phenylphenol (NO INERT USE).
CA-120002 | 100 | Heritage Fungicide | Azoxystrobin.
NJ-980001 | 70506 | Ziram 76DF Fungicide | Ziram.
WA-090014 | 71297 | AFxRD-038 | 1-Methylcyclopropene.

Table 1B—Spirodiclofen Product Cancellations
Registration No. | Company No. | Product name | Active Ingredient
264-830 | 264 | Spirodiclofen Technical | Spirodiclofen.
264-831 | 264 | Envidor 2 SC | Spirodiclofen.

Table 2—Product Registration Amendments To Terminate Uses
Registration No. | Company No. | Product name | Active ingredient | Uses to be terminated
264-718 | 264 | Spiromesifen Technical | Spiromesifen | Succulent shelled, edible-podded & dry shelled beans; & bulb vegetables (crop group 3-07).
400-577 | 400 | Belmont 2.7 FS | Metalaxyl | Seed Treatment Uses: Canola, mustard seed, rapeseed. Cucurbit Vegetables: Chayote (fruit), Chinese waxgourd, citron melon, gherkin, edible gourd (includes hyotan, cucuzza, Chinese okra, and hechima), momordica spp. (includes balsam apple, balsam pear, bitter melon, Chinese cucumber), muskmelon (includes true cantaloupe, cantaloupe, casaba, crenshaw melon, golden pershaw melon, honeydew melon, honey balls, mango melon, Persian melon, pineapple melon, Santa Claus melon, and snake melon), pumpkin, summer squash (includes crookneck squash, scallop squash, straightneck squash, vegetable marrow, zucchini), winter squash (includes butternut squash, calabaza, hubbard squash), cucumis mixtar, cucumis pepo (includes acorn squash, spaghetti squash), watermelon (includes hybrids and/or varieties of citrullus lanatus).
|  |  |  | Leafy Vegetables: Amaranth (leafy, Chinese spinach **, tampala), cardoon, celery (including Chinese), celtuce, chervil, chrysanthemum (edible-leaved and garland), corn salad, cress (garden and upland), dandelion, dock, endive, fennel (finochio), lettuce (head and leaf), orach, parsley, purslane (garden and winter), radicchio, rhubarb, and Swiss chard. Brassica (cole) Head, Stem and Leafy Vegetables: Broccoli (including Chinese and raab), Brussels sprouts, cabbage (including Chinese bok choy, Chinese napa and mustard), cauliflower, cavalo broccoli, collards, kale, kohlrabi, mizuna, mustard greens, mustard spinach, and rape greens.
|  |  |  | Fruiting Vegetables: Eggplant, groundcherry, pepino, pepper (including bell pepper, chili pepper, cooking pepper, pimento, sweet pepper), tomatillo, and tomato. Onions (dry bulb and green):
|  |  |  | Root and Tuber Vegetables: Arracacha, arrowroot, artichoke (Chinese and Jerusalem), burdock (edible), canna (edible), cassava (bitter and sweet), celery root, chayote, chervil, chicory, chufa, dasheen, ginger, ginseng, horseradish, leren, parsley (turnip-rooted), parsnip, radish (includes oriental dalkon), rutabaga, salsify (includes black and Spanish), skirret, sweet potato, tanier, turmeric, turnip, yam bean (jicama, manioc pea), yam.
5383-104 | 5383 | Troy Mergal K14 | 5-Chloro-2-methyl-3(2H)-isothiazolone; & 2-Methyl-3(2H)-isothiazolone | Metal working fluids.
10807-199 | 10807 | Misty Dualcide P3 RTU | Permethrin | Adult mosquito control section.
19713-156 | 19713 | Drexel Captan 4L Fungicide | Captan | Turf, sod farm, golf course, lawn seedbed, soil and greenhouse bench treatment.
19713-235 | 19713 | Drexel Captan 50W | Captan | Turf, sod farm, golf course, lawn seedbed, soil and greenhouse bench treatment.
19713-258 | 19713 | Drexel Captan Technical | Captan | Turf (golf courses), sod farms, soil seedbeds and greenhouse bench treatments.
19713-268 | 19713 | Drexel Kaptan 50W | Captan | Turf, sod farm, golf course, lawn seedbed, soil and greenhouse bench treatment.
19713-362 | 19713 | Drexel 80% Captan | Captan | Turf, sod farm, golf course, lawn seedbed, soil and greenhouse bench treatment.
19713-385 | 19713 | Drexel 80% Kaptan | Captan | Turf, sod farm, golf course, lawn seedbed, soil and greenhouse bench treatment.
19713-405 | 19713 | Drexel Captan 80 EDF | Captan | Turf, sod farm, golf course, lawn seedbed, soil and greenhouse bench treatment.
19713-500 | 19713 | Drexel Captan Technical Two | Captan | Seedbeds and greenhouse bench treatments.
19713-631 | 19713 | Drexel Captan Technical 97% | Captan | Turf (golf courses), sod farms, soil seedbeds and greenhouse bench treatments.
19713-644 | 19713 | DCC Captan 4L (Alternate name: Captan 4L) | Captan | Turf, sod farm, golf course, lawn seedbed, soil and greenhouse bench treatment.
19713-646 | 19713 | Drexel Captan 50W Fungicide | Captan | Turf, sod farm, golf course, lawn seedbed, soil and greenhouse bench treatment.
19713-652 | 19713 | Drexel Captan 80 WDG | Captan | Turf, sod farm, golf course, lawn seedbed, soil and greenhouse bench treatment.
33658-33 | 33658 | Reality Termiticide/Insecticide | Permethrin | Agricultural crop use directions section.
34704-427 | 34704 | Captan 50-W | Captan | Soil and greenhouse bench treatment.
34704-1075 | 34704 | Captan 80 WDG | Captan | Grasses (ornamental in non-pastured areas)/turf (golf course), (lawn seedbeds)/turf (sod farms), soil and greenhouse bench treatment.
34704-1076 | 34704 | Captan 4L | Captan | Grasses (ornamentals in non-pastured areas and lawn seedbeds), soil, and greenhouse bench treatment.
42750-145 | 42750 | Imazethapyr TGAI | Imazethapyr | Clearfield rice.
42750-146 | 42750 | Imazeth 2SC | Imazethapyr, ammonium salt | Clearfield rice.
64321-1 | 64321 | Bio Kill Brand Insecticide | Permethrin | Food crops.
66675-3 | 66675 | CS 2005—(Magna-Bon Bahama Klear)-Alternate | Copper sulfate pentahydrate | Swimming pool, outdoor hot tub and spa usages, and post-harvest fruit and vegetable wash.
91232-3 | 91232 | FD Tebuconazole 3.6F | Tebuconazole | Seed treatment use on corn.

Table 3 of this unit includes the names and addresses of record for all registrants of the products in Table 1A, Table 1B and Table 2 of this unit, in sequence by EPA company number. This number corresponds to the first part of the EPA registration numbers of the products listed in Table 1A, Table 1B and Table 2 of this unit.

Table 3—Registrants of Cancelled and Amended Products
EPA company No. | Company name and address
100 | Syngenta Crop Protection, LLC, 410 Swing Road, P.O. Box 18300, Greensboro, NC 27419-8300.
211 | Central Solutions, Inc., 401 Funston Road, Kansas City, KS 66115.
264 | Bayer CropScience, LP, 2 T.W. Alexander Drive, P.O. Box 12014, Research Triangle Park, NC 27709.
400 | MacDermid Agricultural Solutions, Inc., C/O Arysta LifeScience North America, LLC, 15401 Weston Parkway, Suite 150, Cary, NC 27513.
769 | Value Gardens Supply, LLC, D/B/A Value Garden Supply, Agent Name: JM Specialty Consulting, LLC, 44 Pine Lane Ranch Road, Laurel, MS 39443.
875 | Diversey, Inc., 1410 Newman Road, Racine, WI 53406.
1677 | Ecolab, Inc., 1 Ecolab Place, St. Paul, MN 55102.
2217 | PBI/Gordon Corp., 1217 West 12th Street, P.O. Box 014090, Kansas City, MO 64101-0090.
3862 | ABC Compounding Co., Inc., P.O. Box 80729, Conyers, GA 30013.
4787 | Cheminova A/S, Agent Name: FMC Corporation, 1735 Market Street, Room 1971, Philadelphia, PA 19103.
5383 | Troy Chemical Corporation, Agent Name: Troy Corporation, 8 Vreeland Road, Florham Park, NJ 07932.
7616 | Kik Pool Additives, Inc., Agent Name: Delta Analytical Corporation, 12510 Prosperity Drive, Suite 160, Silver Spring, MD 20904.
9480 | Professional Disposables International, Inc., Agent Name: Delta Analytical Corp., 12510 Prosperity Drive, Suite 160, Silver Spring, MD 20904.
9688 | Chemsico, A Division of United Industries Corp., P.O. Box 142642, St. Louis, MO 63114-0642.
10088 | Athea Laboratories, Inc., P.O. Box 240014, Milwaukee, WI 53224.
10163 | Gowan Company, P.O. Box 5569, Yuma, AZ 85366.
10324 | Mason Chemical Company, 723 W. Algonquin Rd., Suite B, Arlington Heights, IL 60005.
10807 | Amrep, Inc., Agent Name: Zep, Inc. C/O Compliance Services, 1259 Seabord Industrial Blvd., NW, Atlanta, GA 30318.
19713 | Drexel Chemical Company, P.O. Box 13327, Memphis, TN 38113-0327.
33658 | Gharda Chemicals Limited, Agent Name: IPM Resources, LLC, 4032 Crockers Lake Blvd., Ste. 818, Sarasota, FL 34238.
33955 | PBI/Gordon Corp., 1217 West 12th Street, P.O. Box 014090, Kansas City, MO 64101-0090.
34704 | Loveland Products, Inc., P.O. Box 1286, Greeley, CO 80632-1286.
34810 | Wexford Labs, Inc., 325 Leffingwell Ave., Kirkwood, MI 63122.
39039 | Y-Tex Corporation, 1825 Big Horn Avenue, Cody, WY 82414.
39444 | Katadyn Produkte, D/B/A Katadyn Products, Inc., Agent Name: Regwest Company, LLC, 8203 West 20th Street, Suite A, Greeley, CO 80634-4696.
42750 | Albaugh, LLC, P.O. Box 2127, Valdosta, GA 31604-2127.
47000 | Chem-Tech, Ltd., 110 Hopkins Drive, Randolph, WI 53956.
51147 | Vertellus, LLC, 201 N. Illinois Street, Suite 1800, Indianapolis, IN 46204.
53345 | Erco Worldwide, Agent Name: Lewis & Harrison, LLC, 122 C Street NW, Suite 505, Washington, DC 20001.
59820 | Allergopharma Joachim, Agent Name: Brazos Associates, Inc., 621 West 4th Street, Cordell, OK 73632.
64321 | Jesmond Holding AG, Agent Name: Registrations by Design, Inc., P.O. Box 1019, Salem, VA 24153-3805.
66675 | Magna-Bon II, LLC, 1531 NW 25th Drive, Okeechobee, FL 34972.
70385 | ProRestore Products, Agent Name: Lewis & Harrison, LLC, 122 C Street NW, Suite 505, Washington, DC 20001.
70506 | United Phosphorus, Inc., 630 Freedom Business Center, Suite 402, King of Prussia, PA 19406.
71297 | AgroFresh, Inc., 400 Arcola Road, P.O. Box 7000, Collegeville, PA 19426.
91232 | Fengdeng USA, Inc., 123 Cornell Road, Bala Cynwyd, PA 19004.

III. Summary of Public Comments Received and Agency Response to Comments

During the public comment period provided EPA received 5 general comments, 3 specifically concerning the chemical, Chlorpyrifos. The Agency does not believe that the comments submitted during the comment period merits further review or the denial of the requests for the voluntary cancellations of products listed in Table 1A and Table 1B of Unit II or the requests for the amendments to terminate uses in Table 2 of Unit II.

IV. Cancellation Order

Pursuant to FIFRA section 6(f) (7 U.S.C. 136d(f)(1)), EPA hereby approves the requested cancellations and amendments to terminate uses of the registrations identified in Tables 1A, 1B and 2 of Unit II. Accordingly, the Agency hereby orders that the product registrations identified in Tables 1A, 1B and 2 of Unit II are canceled and amended to terminate the affected uses. The effective date of the cancellations that are subject of this notice is December 26, 2017. Any distribution, sale, or use of existing stocks of the products identified in Tables 1A, 1B and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of October 3, 2017 (82 FR 46052) (FRL-9966-85). The comment period closed on November 2, 2017.

VI. Provisions for Disposition of Existing Stocks

Existing stocks are those stocks of registered pesticide products which are currently in the United States and which were packaged, labeled, and released for shipment prior to the effective date of the action. The existing stocks provision for the products subject to this order is as follows.

A. For Products 211-25, 211-32, 211-36, 211-62 and 34810-8

The registrant has requested to the Agency via letter to sell existing stocks for an 18-month period for products 211-25, 211-32, 211-36, 211-62 and 34810-8.

B. For the Products Listed in Table 1b, 264-830 and 264-831

As there are no risk concerns for these products, after December 31, 2020, the registrant will be prohibited from producing, selling, or distributing existing stocks of products containing Spirodiclofen.

C. For Products 47000-91, 47000-95 and 47000-144

The registrant has requested to the Agency via letter to manufacture and/or distribute existing stocks for a 24-month period starting the date of the request which was April 25, 2017 for products 47000-91 and 47000-95, and June 28, 2017 for product 47000-144.

For all other voluntary product cancellations identified in Table 1A of Unit II, the registrants may continue to sell and distribute existing stocks of the products listed in Table 1A until December 26, 2018, which is December 26, 2018 .

Thereafter, the registrants are prohibited from selling or distributing the products listed in Table 1A of Unit II, except for export in accordance with FIFRA section 17 (7 U.S.C. 136o) or for proper disposal.

Now that EPA has approved product labels reflecting the requested amendments to terminate uses for the products listed in Table 2 of Unit II, registrants are permitted to sell or distribute the products listed in Table 2 of Unit II, under the previously approved labeling until June 26, 2019, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: December 5, 2017.
Delores Barber,
Director, Information Technology and Resources Management Division, Office of Pesticide Programs.

[FR Doc. 2017-27811 Filed 12-22-17; 8:45 am]

BILLING CODE 6560-50-P